Title 3—

The President

Proclamation 8805 of April 27, 2012

Workers Memorial Day, 2012

By the President of the United States of America

A Proclamation

For centuries, American workers have called upon boundless drive and initiative to raise our cities, manufacture our goods, and build an economy that remains the engine and the envy of the world. Generations put their lives on the line to pursue prosperity, braving the hazards of the factory floor and the heat of the fields without protective equipment or the right to a safe workplace. Through the unbending conviction of workers, labor unions, and public health advocates, we secured that basic right over 40 years ago, helping protect Americans from death or injury. Yet, despite the progress we have made, it remains a deplorable fact that an average of 12 individuals die on the job every day. On Workers Memorial Day, we honor all who have perished, and we recommit to ensuring no worker ever has to choose between life and a paycheck.

Every year, more than 3 million Americans are injured on the job. Some will never fully recover; some will never come home at all. Tragically, many incidents occur due to preventable hazards that cast our Nation’s most vulnerable workers into harm’s way—in the mine shaft, on the construction site, or at the factory. This is unacceptable, and as we reflect on the terrible burden these workers and their families have borne, we must do more to fulfill the promise of a safe workplace for all.

My Administration remains committed to realizing that vision. The Department of Labor and agencies across the Federal Government are striving to defend workers’ rights, hold employers accountable, and empower Americans across our country with the tools they need to stay safe on the job. We are pursuing enhanced whistleblower protections that will reinforce every worker’s right to raise their voice without fear of retaliation. Over 2 years after the explosion at Upper Big Branch Mine in West Virginia, we continue to advance and enforce new standards and programs that will help ensure that tragedy was the last of its kind. And, through a variety of public-private partnerships, we are collaborating with businesses, employees, trade associations, and labor organizations to eliminate workplace hazards and strengthen our competitiveness in the global economy.

When the Congress passed the Federal Coal Mine Health and Safety Act of 1969 and the Occupational Safety and Health Act of 1970, our Nation took great strides toward safe and healthful working conditions for all. Yet, when millions of Americans suffer workplace-related injury or illness every year, and thousands lose their lives, we know we cannot give up the fight. Today, we reflect on their sacrifice, and we rededicate ourselves to protecting the health, safety, and dignity of every worker.

NOW, THEREFORE, I, BARACK OBAMA, President of the United States of America, by virtue of the authority vested in me by the Constitution and the laws of the United States, do hereby proclaim April 28, 2012, as Workers Memorial Day. I call upon all Americans to participate in ceremonies and activities in memory of those killed or injured due to unsafe working conditions.

IN WITNESS WHEREOF, I have hereunto set my hand this twenty-seventh day of April, in the year of our Lord two thousand twelve, and of the Independence of the United States of America the two hundred and thirty-sixth.

[FR Doc. 2012-10714

Filed 5-1-12; 8:45 am]

Billing code 3295-F2-P